DEPARTMENT OF THE INTERIOR

Bureau of Indian Affairs

[245A2100DD/AAKC001030/A0A501010.999900]

Land Acquisitions; Jamul Indian Village of California

AGENCY: Bureau of Indian Affairs, Interior.

ACTION: Notice.

SUMMARY: The Assistant Secretary—Indian Affairs made a final agency determination to acquire 4.23 acres, more or less, of land in trust for the Jamul Indian Village of California.

DATES: This final determination was made on August 19, 2024.

FOR FURTHER INFORMATION CONTACT: Amy Dutschke, Regional Director, Bureau of Indian Affairs, Pacific Region, 2800 Cottage Way, Room W-2820, Sacramento, CA 95825, comments@bia.gov, (916) 978-6000.

SUPPLEMENTARY INFORMATION: On the date listed in the DATES section of this notice, the Assistant Secretary—Indian Affairs made a final agency determination to accept land in trust for the Jamul Indian Village of California under the authority of section 5 of the Indian Reorganization Act of June 18, 1934 (48 Stat. 984). The land consists of 4.23 acres, more or less, and is situated in the County of San Diego, State of California. The legal description is as follows:

Legal Land Description

All that portion of the Fractional Southwest quarter of section 10, Township 17 South, Range 1 East, San Bernardino Meridian, according to the U.S. Government Survey thereof, in the County of San Diego, State of California, more particularly described as follows:

Commencing at corner No. 16 of Rancho Jamul according to the record of Survey thereof No. 695, filed in the office of the County Recorder of San Diego; thence South 88°23′30″ East along the Northerly line of said Rancho Jamul a distance of 1242.57 feet to the true point of beginning; thence continuing South 88°23′30″ East along said Northerly line a distance of 671.25 feet to the Southwesterly line of Highway Route 16, Division No. 2, also known as Campo Road and State Highway 94; thence Northwesterly along said Southwesterly line the following courses: North 47°30′30″ West, 291.96 feet; North 46°30′30″ West, 264.02 feet; North 61°03′30″ West, 123.75 feet; North 47°57′30″ West, 189.19 feet; thence leaving said Southwesterly line South 01°36′30″ West, 546.89 feet to the true point of beginning.

Authority: This notice is published in the exercise of authority delegated by the Secretary of the Interior to the Assistant Secretary—Indian Affairs by 209 Departmental Manual 8.1 and is published to comply with the requirements of 25 CFR 151.12 (c)(2)(ii) that notice of the decision to acquire land in trust be promptly provided in the Federal Register.

Wizipan Garriott,
Principal Deputy Assistant Secretary—Indian Affairs, Exercising by delegation the authority of the Assistant Secretary—Indian Affairs.

[FR Doc. 2024-19925 Filed 9-4-24; 8:45 am]

BILLING CODE 4337-15-P